FEDERAL RETIREMENT THRIFT INVESTMENT BOARD

Sunshine Act; Notice of Board Member Meeting: Federal Retirement Thrift Investment Board

AGENDA: Federal Retirement Thrift Investment Board Members' Meeting, September 18, 2017, 8:30 a.m. (In-Person).

Open Session

1. Approval of the Minutes of the August 28, 2017 Board Members' Meeting

2. Monthly Reports

(a) Participant Activity Report

(b) Investment Performance Report

(c) Legislative Report

3. Calendar Review 2017/2018

4. FY 18 Budget Review and Approval

5. Vendor Financials

6. The Office of Participant Services' Annual Report

7. Blended Retirement Update

8. IT Update

Closed Session

Information covered under 5 U.S.C. 552b(c)(4) and (c)(9)(B).

CONTACT PERSON FOR MORE INFORMATION: Kimberly Weaver, Director, Office of External Affairs, (202) 942-1640.

Dated: September 7, 2017.
Megan Grumbine,
General Counsel, Federal Retirement Thrift Investment Board.

[FR Doc. 2017-19268 Filed 9-7-17; 4:15 pm]

BILLING CODE 6760-01-P